Title 3—

The President

Executive Order 14019 of March 7, 2021

Promoting Access to Voting

By the authority vested in me as President by the Constitution and the laws of the United States of America, it is hereby ordered as follows:

Section 1. Purpose. The right to vote is the foundation of American democracy. Free and fair elections that reflect the will of the American people must be protected and defended. But many Americans, especially people of color, confront significant obstacles to exercising that fundamental right. These obstacles include difficulties with voter registration, lack of election information, and barriers to access at polling places. For generations, Black voters and other voters of color have faced discriminatory policies and other obstacles that disproportionally affect their communities. These voters remain more likely to face long lines at the polls and are disproportionately burdened by voter identification laws and limited opportunities to vote by mail. Limited access to language assistance remains a barrier for many voters. People with disabilities continue to face barriers to voting and are denied legally required accommodations in exercising their fundamental rights and the ability to vote privately and independently. Members of our military serving overseas, as well as other American citizens living abroad, also face challenges to exercising their fundamental right to vote.

The Constitution and laws of the United States prohibit racial discrimination and protect the right to vote. The Voting Rights Act of 1965 and other Federal statutes implement those protections and assign the Federal Government a key role in remedying disenfranchisement and unequal access to the polls. In passing the National Voter Registration Act of 1993, the Congress found that it is the duty of Federal, State, and local governments to promote the exercise of the fundamental right to vote. Executive departments and agencies (agencies) should partner with State, local, Tribal, and territorial election officials to protect and promote the exercise of the right to vote, eliminate discrimination and other barriers to voting, and expand access to voter registration and accurate election information. It is our duty to ensure that registering to vote and the act of voting be made simple and easy for all those eligible to do so.

Sec. 2. Policy. It is the policy of my Administration to promote and defend the right to vote for all Americans who are legally entitled to participate in elections. It is the responsibility of the Federal Government to expand access to, and education about, voter registration and election information, and to combat misinformation, in order to enable all eligible Americans to participate in our democracy.

Sec. 3. Expanding Access to Voter Registration and Election Information. Agencies shall consider ways to expand citizens' opportunities to register to vote and to obtain information about, and participate in, the electoral process.

(a) The head of each agency shall evaluate ways in which the agency can, as appropriate and consistent with applicable law, promote voter registration and voter participation. This effort shall include consideration of:

(i) ways to provide relevant information in the course of activities or services that directly engage with the public—including through agency materials, websites, online forms, social media platforms, and other points of public access—about how to register to vote, how to request a vote-by-mail ballot, and how to cast a ballot in upcoming elections;

(ii) ways to facilitate seamless transition from agencies' websites directly to State online voter registration systems or appropriate Federal websites, such as Vote.gov;

(iii) ways to provide access to voter registration services and vote-by-mail ballot applications in the course of activities or services that directly engage with the public, including:

(A) distributing voter registration and vote-by-mail ballot application forms, and providing access to applicable State online systems for individuals who can take advantage of those systems;

(B) assisting applicants in completing voter registration and vote-by-mail ballot application forms in a manner consistent with all relevant State laws; and

(C) soliciting and facilitating approved, nonpartisan third-party organizations and State officials to provide voter registration services on agency premises;

(iv) ways to promote and expand access to multilingual voter registration and election information, and to promote equal participation in the electoral process for all eligible citizens of all backgrounds; and

(v) whether, consistent with applicable law, any identity documents issued by the agency to members of the public can be issued in a form that satisfies State voter identification laws.

(b) Within 200 days of the date of this order, the head of each agency shall submit to the Assistant to the President for Domestic Policy a strategic plan outlining the ways identified under this review that the agency can promote voter registration and voter participation.

(c) The Administrator of the Office of Electronic Government, Office of Management and Budget, shall, consistent with applicable law, coordinate efforts across agencies to improve or modernize Federal websites and digital services that provide election and voting information to the American people, including ensuring that Federal websites are accessible to individuals with disabilities and people with limited English proficiency. As appropriate, the Administrator of the United States Digital Service may support agencies in implementing the strategic plans directed in subsection (b) of this section.

Sec. 4. Acceptance of Designation Under the National Voter Registration Act. (a) This order shall supersede section 3 of Executive Order 12926 of September 12, 1994 (Implementation of the National Voter Registration Act of 1993).

(b) Each agency, if requested by a State to be designated as a voter registration agency pursuant to section 7(a)(3)(B)(ii) of the National Voter Registration Act, shall, to the greatest extent practicable and consistent with applicable law, agree to such designation. If an agency declines to consent to such designation, the head of the agency shall submit to the President a written explanation for the decision.

(c) The head of each agency shall evaluate where and how the agency provides services that directly engage with the public and, to the greatest extent practicable, formally notify the States in which the agency provides such services that it would agree to designation as a voter registration agency pursuant to section 7(a)(3)(B)(ii) of the National Voter Registration Act.

Sec. 5. Modernizing Vote.gov. The General Services Administration (GSA) shall take steps to modernize and improve the user experience of Vote.gov. In determining how to do so, GSA shall coordinate with the Election Assistance Commission and other agencies as appropriate, and seek the input of affected stakeholders, including election administrators, civil rights and disability rights advocates, Tribal Nations, and nonprofit groups that study best practices for using technology to promote civic engagement.

(a) GSA's efforts to modernize and improve Vote.gov shall include:

(i) ensuring that Vote.gov complies, at minimum, with sections 504 and 508 of the Rehabilitation Act of 1973;

(ii) ensuring that Vote.gov is translated into languages spoken by any of the language groups covered under section 203 of the Voting Rights Act anywhere in the United States; and

(iii) implementing relevant provisions of the 21st Century Integrated Digital Experience Act (Public Law 115-336).

(b) Within 200 days of the date of this order, GSA shall submit to the Assistant to the President for Domestic Policy a strategic plan outlining the steps to modernize and improve the user experience of Vote.gov.

Sec. 6. Increasing Opportunities for Employees to Vote. It is a priority of my Administration to ensure that the Federal Government, as the Nation's largest employer, serves as a model employer by encouraging and facilitating Federal employees' civic participation. Accordingly, the Director of the Office of Personnel Management shall take the following actions within 200 days of the date of this order:

(a) coordinate with the heads of executive agencies, as defined in 5 U.S.C. 105, to provide recommendations to the President, through the Assistant to the President for Domestic Policy, on strategies to expand the Federal Government's policy of granting employees time off to vote in Federal, State, local, Tribal, and territorial elections. Such recommendations should include efforts to ensure Federal employees have opportunities to participate in early voting.

(b) Coordinate with the heads of executive agencies, as defined in 5 U.S.C. 105, to provide recommendations to the President, through the Assistant to the President for Domestic Policy, on strategies to better support Federal employees who wish to volunteer to serve as non-partisan poll workers or non-partisan observers, particularly during early or extended voting periods.

Sec. 7. Ensuring Equal Access for Voters with Disabilities. Within 270 days of the date of this order, the National Institute of Standards and Technology (NIST) within the Department of Commerce shall evaluate the steps needed to ensure that the online Federal Voter Registration Form is accessible to people with disabilities. During that period, NIST, in consultation with the Department of Justice, the Election Assistance Commission, and other agencies, as appropriate, shall also analyze barriers to private and independent voting for people with disabilities, including access to voter registration, voting technology, voting by mail, polling locations, and poll worker training. By the end of the 270-day period, NIST shall publish recommendations regarding both the Federal Voter Registration Form and the other barriers it has identified.

Sec. 8. Ensuring Access to Voting for Active Duty Military and Overseas Citizens. (a) Within 200 days of the date of this order, the Secretary of Defense shall establish procedures, consistent with applicable law, to affirmatively offer, on an annual basis, each member of the Armed Forces on active duty the opportunity to register to vote in Federal elections, update voter registration information, or request an absentee ballot.

(b) Within 200 days of the date of this order, the Secretary of Defense shall evaluate the feasibility of implementing an online system to facilitate the services described in subsection (a) of this section.

(c) The Secretary of Defense, in coordination with the Department of State, the Military Postal Service Agency, and the United States Postal Service, shall take all practical steps to establish procedures to enable a comprehensive end-to-end ballot tracking system for all absentee ballots cast by military and other eligible overseas voters under the Uniformed and Overseas Citizens Absentee Voting Act, 52 U.S.C. 20301 et seq. Within 200 days of the date of this order, the Secretary of Defense shall submit a report to the Assistant to the President for Domestic Policy with a strategic plan for establishing the aforementioned tracking system.

(d) The head of each agency with overseas employees shall designate an employee to be responsible for coordinating with the Federal Voting Assistance Program, including to promote voter registration and voting services available to the agency's overseas employees. The Director of the Office of Management and Budget may issue guidance to assist agencies in making such designations.

Sec. 9. Ensuring Access to Voter Registration for Eligible Individuals in Federal Custody. (a) The Attorney General shall establish procedures, consistent with applicable law, to provide educational materials related to voter registration and voting and, to the extent practicable, to facilitate voter registration, for all eligible individuals in the custody of the Federal Bureau of Prisons. Such educational materials shall be incorporated into the reentry planning procedures required under section 4042(a)(7) of title 18, United States Code. The educational materials should also notify individuals leaving Federal custody of the restrictions, if any, on their ability to vote under the laws of the State where the individual resides and, if any such restrictions exist, the point at which the individual's rights will be restored under applicable State law.

(b) The Attorney General shall establish procedures, consistent with applicable law, to ensure the United States Marshals Service includes language in intergovernmental agreements and jail contracts to require the jails to provide educational materials related to voter registration and voting, and to facilitate voting by mail, to the extent practicable and appropriate.

(c) The Attorney General shall establish procedures, consistent with applicable law, for coordinating with the Probation and Pretrial Services Office of the Administrative Office of the United States Courts to provide educational materials related to voter registration and voting to all eligible individuals under the supervision of the Probation and Pretrial Services Office, and to facilitate voter registration and voting by such individuals.

(d) The Attorney General shall take appropriate steps, consistent with applicable law, to support formerly incarcerated individuals in obtaining a means of identification that satisfies State voter identification laws, including as required by 18 U.S.C. 4042(a)(6)(B).

Sec. 10. Establishing a Native American Voting Rights Steering Group. (a) There is hereby established an Interagency Steering Group on Native American Voting Rights (Steering Group) coordinated by the Domestic Policy Council.

(b) The Steering Group shall be chaired by the Assistant to the President for Domestic Policy and shall include the Attorney General, the Secretary of the Interior, the Secretary of Agriculture, the Secretary of Labor, the Secretary of Health and Human Services, and the Secretary of Veterans Affairs or their designees. The Chair may invite the participation of the heads or senior representatives of other agencies, as the Chair determines to be helpful to complete the work of the Steering Group. The Steering Group shall consult with agencies not represented on the Steering Group to facilitate the sharing of information and best practices, as appropriate and consistent with applicable law.

(c) The Steering Group shall engage in meaningful and robust consultation with Tribal Nations and Native leaders to inform the Steering Group regarding concerns and potential areas of focus for the report described in subsection (d) of this section, and to assist the Steering Group in developing that report.

(d) The Steering Group shall study best practices for protecting voting rights of Native Americans and shall produce a report within 1 year of the date of this order outlining recommendations for providing such protection, consistent with applicable law, including recommendations for:

(i) increasing voter outreach, education, registration, and turnout in Native American communities; increasing voting access for Native American communities (including increasing accessibility for voters with disabilities); and mitigating internet accessibility issues that may hinder voter registration and ballot access in Native American communities;

(ii) increasing language access and assistance for Native American voters, including evaluating existing best practices;

(iii) mitigating barriers to voting for Native Americans by analyzing and providing guidance on how to facilitate the use of Tribal government identification cards as valid voter identification in Federal, State, local, Tribal, and territorial elections;

(iv) facilitating collaboration among local election officials, Native American communities, and Tribal election offices; and

(v) addressing other areas identified during the consultation process.

(e) The Department of the Interior shall provide administrative support for the Steering Group to the extent permitted by law.

Sec. 11. Definition. Except as otherwise defined in section 6 of this order, “agency” means any authority of the United States that is an “agency” under 44 U.S.C. 3502(1), other than those considered to be independent regulatory agencies, as defined in 44 U.S.C. 3502(5).

Sec. 12. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 7, 2021.

[FR Doc. 2021-05087

Filed 3-9-21; 8:45 am]

Billing code 3295-F1-P